DEPARTMENT OF DEFENSE

Office of the Secretary

Establishment of Department of Defense Federal Advisory Committees

AGENCY: DoD.

ACTION: Establishment of Federal Advisory Committee.

SUMMARY: Under the provisions of 10 U.S.C. 2166(e), the Federal Advisory Committee Act of 1972 (5 U.S.C. Appendix), the Government in the Sunshine Act of 1976 (5 U.S.C. 552b), and 41 CFR 102-3.50(a), the Department of Defense gives notice that it is establishing the charter for the Vietnam War Commemoration Advisory Committee (hereafter referred to as “the Committee”).

The Committee shall provide the Secretary of Defense and the Deputy Secretary of Defense, through the Director of Administration and Management (DA&M), independent advice and recommendations on the Department of Defense's (DoD) program to commemorate the 50th Anniversary of the Vietnam War.

The Committee shall report to the Secretary and Deputy Secretary of Defense, through the DA&M. The DA&M may act upon the Committee's advice and recommendations. The Committee shall be composed of no more than 20 members, who are appointed by the Secretary of Defense. These members shall represent Vietnam Veterans, their families, and the American public. Candidates for the Committee shall be selected from the Military Services (both retired veterans and active members who served during the Vietnam era), the Department of Defense, the Department of State, the Department of Veterans Affairs, and the Intelligence Community. In addition, candidates from nongovernmental organizations that support veterans or that contribute to the public's understanding of the Vietnam War shall be selected. The Secretary of Defense may approve the appointment of Committee members for a three-year term of service; however, no member, unless authorized by the Secretary of Defense, may serve more than two consecutive terms of service. This same term of service limitation also applies to any DoD-authorized subcommittees.

The Secretary of Defense, through the DA&M, may appoint additional experts and consultants to provide advice to the Committee as subject matter experts. These subject matter experts may be regular government officers/employees or individuals appointed under the authority of 5 U.S.C. 3109; however, subject matter experts shall not participate in the Committee's deliberations and shall not have Committee voting rights. Each Committee member is appointed to provide advice on behalf of the government on the basis of his or her best judgment without representing any particular point of view and in a manner that is free from conflict of interest. The Department, when necessary and consistent with the Committee's mission and DoD policies and procedures, may establish Subcommittees, task groups, or working groups to support the Committee. Establishment of Subcommittees will be based upon a written determination, to include terms of reference, by the Secretary of Defense, the Deputy Secretary of Defense, or the Committee's sponsor.

These Subcommittees shall not work independently of the chartered Committee, and shall report all of their recommendations and advice solely to the Committee for full deliberation and discussion. Subcommittees have no authority to make decisions and recommendations, verbally or in writing, on behalf of the chartered Committee; nor can any Subcommittee or its members update or report directly to the DoD or any Federal officers or employees. All Subcommittee members shall be appointed in the same manner as the Committee members; that is, the Secretary of Defense shall appoint Subcommittee members even if the member in question is already a Committee member. Subcommittee members, with the approval of the Secretary of Defense, may serve a term of service on the Subcommittee of three years; however, no member shall serve more than two consecutive terms of service on the Subcommittee, unless authorized by the Secretary of Defense.

Subcommittee members, if not full-time or part-time government employees, shall be appointed to serve as experts and consultants under the authority of 5 U.S.C. 3109, and shall serve as special government employees, whose appointments must be renewed by the Secretary of Defense on an annual basis. With the exception of travel and per diem for official Committee-related travel, Subcommittee members shall serve without compensation. Each Subcommittee member is appointed to provide advice on behalf of the government on the basis of his or her best judgment without representing any particular point of view and in a manner that is free from conflict of interest.

All subcommittees operate under the provisions of FACA, the Government in the Sunshine Act, governing Federal statutes and regulations, and governing DoD policies/procedures.

FOR FURTHER INFORMATION CONTACT: Jim Freeman, Deputy Advisory Committee Management Officer for the Department of Defense, 703-692-5952.

SUPPLEMENTARY INFORMATION: The Committee shall meet at the call of the Designated Federal Officer (DFO), in consultation with the Committee's Chairperson. The estimated number of Committee meetings is two per year.

The Committee's DFO is required to be in attendance at all Committee and Subcommittee meetings for the entire duration of each and every meeting. However, in the absence of the Committee's DFO, a properly approved Alternate DFO, duly appointed to the Committee according to DoD policies/procedures, shall attend the entire duration of the Committee or Subcommittee meeting.

Pursuant to 41 CFR 102-3.105(j) and 102-3.140, the public or interested organizations may submit written statements to the Committee membership about the Committee's mission and functions. Written statements may be submitted at any time or in response to the stated agenda of planned meeting of the Committee.

All written statements shall be submitted to the DFO, and this individual will ensure that the written statements are provided to the membership for their consideration. Contact information for the Committee's DFO can be obtained from the GSA's FACA Database— https://www.fido.gov/facadatabase/public.asp.

The DFO, pursuant to 41 CFR 102-3.150, will announce planned meetings of the Committee. The DFO, at that time, may provide additional guidance on the submission of written statements that are in response to the stated agenda for the planned meeting in question.

Dated: December 21, 2012.
Aaron Siegel,
Alternate OSD Federal Register Liaison Officer, Department of Defense.

[FR Doc. 2012-31222 Filed 12-28-12; 8:45 am]

BILLING CODE 5001-06-P